FEDERAL TRADE COMMISSION

[Docket No. 9373]

Impax Laboratories Oral Argument Before the Commission

AGENCY: Federal Trade Commission.

ACTION: Oral Argument; open meeting.

SUMMARY: The Federal Trade Commission (“FTC” or “Commission”) will meet on Thursday, October 11, 2018, in Room 532 of the Federal Trade Commission Building for an Oral Argument in In the Matter of Impax Laboratories, Inc. The public is invited to attend and observe the open portion of the meeting, which is scheduled to begin at 2:00 p.m. The remainder of the meeting will be closed to the public.

DATES: The Oral Argument is scheduled for October 11, 2018 at 2:00 p.m.

ADDRESSES: Federal Trade Commission Building, 600 Pennsylvania Avenue NW, Washington, DC 20580.

FOR FURTHER INFORMATION CONTACT: Donald S. Clark, Secretary, Office of the Secretary, 600 Pennsylvania Avenue NW, Washington, DC 20580, 202-326-2514.

SUPPLEMENTARY INFORMATION:

Open Meeting

(1) Oral Argument in In the Matter of Impax Laboratories, Inc., Docket No. 9373.

Closed Meeting

(2) Executive Session to follow the Oral Argument in In the Matter of Impax Laboratories, Inc., Docket No. 9373.

Record of Commission's Vote

On August 22, 2018, Commissioners Simons, Phillips, Chopra, and Slaughter were recorded as voting in the affirmative to conduct Matter Number One in open session, and to close Matter Number Two, and to withhold from this meeting notice such information as is exempt from disclosure under 5 U.S.C. 552b(c). Commissioner Ohlhausen was recorded as not participating.

Commission's Explanation of Closing

The Commission has determined that Matter Number Two may be closed under 5 U.S.C. 552b(c)(10), and that the public interest does not require the matter to be open.

General Counsel Certification

The General Counsel has certified that Matter Number Two may properly be closed, citing the following relevant exemptive provision: 5 U.S.C. 552b(c)(10).

Expected Attendees

Expected to attend the closed meeting are the Commissioners themselves, an advisor to one of the Commissioners, and such other Commission staff as may be appropriate.

By direction of the Commission, Commissioner Ohlhausen not participating.
Donald S. Clark,
Secretary.

[FR Doc. 2018-19226 Filed 9-5-18; 8:45 am]

BILLING CODE 6750-01-P